DEPARTMENT OF HOMELAND SECURITY

Coast Guard

33 CFR Part 117

[CGD01-05-078]

Drawbridge Operation Regulations: Long Island, New York Inland Waterway from East Rockaway Inlet to Shinnecock Canal, NY

AGENCY: Coast Guard, DHS.

ACTION: Notice of temporary deviation from regulations and request for comment.

SUMMARY: The Commander, First Coast Guard District, has issued a temporary deviation from the drawbridge operation regulations to test an alternate drawbridge operation regulation for the Loop Parkway Bridge, at mile 0.7, across Long Creek, New York. Under this temporary 90-day deviation the bridge will open on signal once an hour, on the half hour, between 7:30 a.m. and 8:30 p.m., and at all other times after a 30 minute advance notice is given by calling the number posted at the bridge. The bridge will open promptly on signal for commercial vessels at any time.

DATES: This deviation is effective from August 15, 2005 through November 12, 2005. Comments must reach the Coast Guard on or before November 30, 2005.

ADDRESSES: You may mail comments to Commander (obr), First Coast Guard District Bridge Branch, One South Street, Battery Park Building, New York, New York, 10004, or deliver them to the same address between 7 a.m. and 3 p.m., Monday through Friday, except, Federal holidays. The telephone number is (212) 668-7165. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

Request for Comments

We encourage you to participate in this rulemaking by submitting comments or related material. If you do so, please include your name and address, identify the docket number for this rulemaking (CGD01-05-078), indicate the specific section of this document to which each comment applies, and give the reason for each comment. Please submit all comments and related material in an unbound format, no larger than 8 ½ by 11 inches, suitable for copying. If you would like to know if they reached us, please enclose a stamped, self-addressed postcard or envelope. We will consider all comments and material received during the comment period. We may change this rule in view of them.

FOR FURTHER INFORMATION CONTACT: Judy Leung-Yee, Project Officer, First Coast Guard District, at (212) 668-7195.

SUPPLEMENTARY INFORMATION: The Loop Parkway Bridge has a vertical clearance in the closed position of 21 feet at mean high water and 25 feet at mean low water. The existing drawbridge operation regulations are listed at 33 CFR 117.799(f).

The bridge owner, Jones Beach State Park requested a temporary deviation from the drawbridge operation regulations to test an alternate drawbridge operation schedule to help better balance the needs between vehicular land traffic and marine vessel traffic.

Under this 90-day temporary deviation, in effect from August 15, 2005 through November 12, 2005, the Loop Parkway Bridge at mile 0.7, across Long Creek, shall operate as follows:

The bridge shall open on signal once an hour, on the half hour, between 7:30 a.m. and 8:30 p.m.

At all other times the bridge shall open on signal after a 30-minute notice is given by calling the number posted at the bridge.

The bridge shall open promptly on signal at any time for commercial vessels.

This deviation from the operating regulations is authorized under 33 CFR 117.43.

Dated: July 28, 2005.
Gary Kassof,
Bridge Program Manager, First Coast Guard District.

[FR Doc. 05-15562 Filed 8-5-05; 8:45 am]

BILLING CODE 4910-15-P